FEDERAL COMMUNICATIONS COMMISSION

47 CFR Part 73

[DA 01-1183; MM Docket No. 01-58; RM-10071]

Radio Broadcasting Services; Morenci, AZ

AGENCY: Federal Communications Commission.

ACTION: Proposed rule; dismissal.

SUMMARY: This document dismisses a petition filed on behalf of Copper Valley Radio proposing the allotment of Channel 290A to Morenci, Arizona, as that community's first local aural transmission service, based upon the lack of an expression of interest in pursuing the proposal by any party. See 66 FR 13870, March 8, 2001. With this action, this proceeding is terminated.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 01-58, adopted May 2, 2001, and released May 11, 2001. The full text of this Commission decision is available for inspection and copying during normal business hours in the FCC's Reference Information Center (Room CY-A257), 445 Twelfth Street, SW., Washington, DC 20036, (202) 857-3800. The complete text of this decision may also be purchased from the Commission's copy contractor, International Transcription Service, Inc., 1231 20th Street, NW., Washington, D.C. 20036, (202) 857-3800.

Federal Communications Commission.
John A. Karousos,
Chief, Allocations Branch, Policy and Rules Division, Mass Media Bureau.

[FR Doc. 01-13244 Filed 5-24-01; 8:45 am]

BILLING CODE 6712-01-P